DEPARTMENT OF ENERGY

Federal Energy Regulatory Commission

[Docket No. EG00-125-000, et al.]

ANP Bellingham Energy Company, et al.; Electric Rate and Corporate Regulation Filings

April 11, 2000.

Take notice that the following filings have been made with the Commission:

1. ANP Bellingham Energy Company

[Docket No. EG00-125-000]

Take notice that on April 5, 2000, ANP Bellingham Energy Company (Applicant), a Delaware corporation, whose address is 10000 Memorial Drive, Suite 500, Houston, Texas 77024, filed with the Federal Energy Regulatory Commission an application for determination of exempt wholesale generator status pursuant to part 365 of the Commission's regulations.

Applicant intends to construct an approximate 550 MW natural gas-fired combined cycle independent power production facility in Bellingham, Massachusetts (the Facility). The Facility is currently under development and will be owned by Applicant. Electric energy produced by the Facility will be sold by Applicant to the wholesale power market in the northeast United States.

Comment date: May 2, 2000, in accordance with Standard Paragraph E at the end of this notice. The Commission will limit its consideration of comments to those that concern the adequacy or accuracy of the application.

2. ANP Blackstone Energy Company

[Docket No. EG00-126-000]

Take notice that on April 5, 2000, ANP Blackstone Energy Company (Applicant), a Delaware corporation, whose address is 10000 Memorial Drive, Suite 500, Houston, Texas 77024, filed with the Federal Energy Regulatory Commission an application for determination of exempt wholesale generator status pursuant to part 365 of the Commission's regulations.

Applicant intends to construct an approximate 550 MW natural gas-fired combined cycle independent power production facility in Blackstone, Massachusetts (the Facility). The Facility is currently under development and will be owned by Applicant. Electric energy produced by the Facility will be sold by Applicant to the wholesale power market in the northeast United States

Comment date: May 2, 2000, in accordance with Standard Paragraph E at the end of this notice. The commission will limit its consideration of comments to those that concern the adequacy or accuracy of the application.

3. Wabash Valley Power Association and American Municipal Power Ohio, Inc. v. American Electric Power Services Corporation; Indiana Municipal Power Agency v. American Electric Power Service Corporation

[Docket Nos. EL99-66-001 and EL99-72-001]

Take notice that on April 4, 2000, American Electric Power Service Corporation (AEP), on the tendered for filing its refund report in response to the Commission's order of March 16, 2000. AEP also filed revised tariff sheets reflecting changes in its loss factors that had been inadvertently omitted from its settlement filing on December 10, 1999.

Copies of the filing were served upon all intervenors and all parties that signed the settlement agreement.

Comment date: May 4, 2000, in accordance with Standard Paragraph E at the end of this notice.

4. Connexus Energy

[Docket No. ER00-1900-001]

Take notice that on April 5, 2000, Connexus Energy (Connexus) submitted for filing substitute tariff sheets to replace supplements, filed on March 23, 2000, to Connexus Energy Rate Schedule FERC No. 1. Connexus states that the purpose of the filing is to change the proposed effective date of the Amendment to the All Requirements Contract, and associated revised Schedule V, between Connexus Energy and Elk River Municipal Utilities.

The substitute tariff sheets provide for an effective date of January 1, 2000. Connexus requests waiver of the prior notice requirement.

Comment date: April 26, 2000, in accordance with Standard Paragraph E at the end of this notice.

5. Otter Tail Power Company

[Docket No. ER00-2105-000]

Take notice that on April 4, 2000, Otter Tail Power Company (OTP) tendered for filing a Service Agreement between OTP and Public Service Company of Colorado (PSCO). The Service Agreement allows PSCO to purchase capacity and/or energy under OTP's Coordination Sales Tariff.

Comment date: April 25, 2000, in accordance with Standard Paragraph E at the end of this notice.

6. PJM Interconnection, L.L.C.

[Docket No. ER00-2106-000]

Take notice that on April 4, 2000, 1999, PJM Interconnection, L.L.C. (PJM) tendered for filing a notice of cancellation of Conoco Power Marketing Inc.’ (formerly DuPont Power Marketing Inc.) membership in PJM.

PJM requests a waiver and effective date of April 5, 2000 for the notice of cancellation.

PJM states that it served a copy of its filing on all of the members of PJM, including the withdrawing company, and each of the electric regulatory commissions within the PJM control area.

Comment date: April 25, 2000, in accordance with Standard Paragraph E at the end of this notice.

7. Entergy Services, Inc.

[Docket No. ER00-2107-000]

Take notice that on April 4, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-to-Point Transmission Service Agreement and a Short-Term Firm Point-to-Point Transmission Service Agreement both between Entergy Services, Inc. as agent for the Entergy Operating Companies, and Conoco Power Marketing, Inc.

Entergy Services requests an effective date of March 28, 2000 for the Service Agreement.

Comment date: April 25, 2000, in accordance with Standard Paragraph E at the end of this notice.

8. Minnesota Power, Inc.

[Docket No. ER00-2108-000]

Take notice that on April 5, 2000, Minnesota Power, Inc. tendered for filing a signed Firm Point-to-Point Transmission Service Agreement with Northern States Power Company under its Firm Point-to-Point Transmission Service to satisfy its filing requirements under this tariff.

Comment date: April 26, 2000, in accordance with Standard Paragraph E at the end of this notice.

9. Sierra Pacific Power Company

[Docket No. ER00-2109-000]

Take notice that on April 5, 2000, Sierra Pacific Power Company tendered for filing pursuant to Section 205 of the Federal Power Act, an executed Network Integration Service Agreement (Service Agreement) between Sierra Pacific Power Company and the City of Fallon. The Service Agreement is being filed in compliance with Section 29.5 of Sierra Pacific Resources Operating Utilities Open Access Transmission Tariff.

Sierra has requested that the Commission accept the Service Agreement and permit service thereunder be effective as of March 8, 2000.

Comment date: April 26, 2000, in accordance with Standard Paragraph E at the end of this notice.

10. Sierra Pacific Power Company

[Docket No. ER00-2110-000]

Take notice that on April 5, 2000, Sierra Pacific Power Company tendered for filing pursuant to 18 CFR part 35 of the Commission's Rules and Regulations, a Notice of Cancellation of Agreement for Electric Service Agreement Between Sierra Pacific Power Company and City of Fallon to be effective as of March 8, 2000.

This Notice of Cancellation is filed pursuant to the notice of termination of the Electric Service Agreement given to Sierra Pacific Power Company by the City of Fallon.

Copies of the filing were served upon the City of Fallon, the Public Utilities Commission of Nevada and the Nevada Attorney General's Bureau of Consumer Protection.

Comment date: April 26, 2000, in accordance with Standard Paragraph E at the end of this notice.

11. Allegheny Energy Service Corporation, on behalf of Allegheny Energy Supply Company, LLC

[Docket No. ER00-2112-000]

Take notice that on April 5, 2000, Allegheny Energy Service Corporation on behalf of Allegheny Energy Supply Company, LLC (Allegheny Energy Supply) filed Amendment No. 1 to Supplement No. 6 to the Market Rate Tariff to incorporate a Netting Agreement with Southern Company Energy Marketing L.P. into the tariff provisions.

Allegheny Energy Supply requests a waiver of notice requirements to make the Amendment effective as of March 14, 2000 or such other date as ordered by the Commission.

Copies of the filing have been provided to the Public Utilities Commission of Ohio, the Pennsylvania Public Utility Commission, the Maryland Public Service Commission, the Virginia State Corporation Commission, the West Virginia Public Service Commission, and all parties of record.

Comment date: April 26, 2000, in accordance with Standard Paragraph E at the end of this notice.

12. Allegheny Energy Service Corporation, on behalf of Allegheny Energy Supply Company LLC

[Docket No. ER00-2113-000]

Take notice that on April 5, 2000, Allegheny Energy Service Corporation on behalf of Allegheny Energy Supply Company, LLC (Allegheny Energy Supply Company) filed Amendment No. 2 to Supplement No. 23 to complete the filing requirement for one (1) new Customer of the Market Rate Tariff under which Allegheny Energy Supply offers generation services. Allegheny Energy requests a waiver of notice requirements to make service available as of January 7, 2000 to New York State Electric & Gas Corporation.

Copies of the filing have been provided to the Public Utilities Commission of Ohio, the Pennsylvania Public Utility Commission, the Maryland Public Service Commission, the Virginia State Corporation Commission, the West Virginia Public Service Commission, and all parties of record.

Comment date: April 26, 2000, in accordance with Standard Paragraph E at the end of this notice.

13. Allegheny Energy Service Corporation on behalf of Allegheny Energy Supply Company, LLC

[Docket No. ER00-2114-000]

Take notice that on April 5, 2000, Allegheny Energy Service Corporation on behalf of Allegheny Energy Supply Company, LLC (Allegheny Energy Supply) filed Supplement No. 35 to add one (1) new Customer to the Market Rate Tariff under which Allegheny Energy Supply offers generation services.

Allegheny Energy Supply requests a waiver of notice requirements to make service available as of March 7, 2000 to NewEnergy, Inc.

Copies of the filing have been provided to the Public Utilities Commission of Ohio, the Pennsylvania Public Utility Commission, the Maryland Public Service Commission, the Virginia State Corporation Commission, the West Virginia Public Service Commission, and all parties of record.

Comment date: April 26, 2000, in accordance with Standard Paragraph E at the end of this notice.

14. Alliant Energy Corporate Services, Inc.

[Docket No. ER00-2115-000]

Take notice that on April 5, 2000, Alliant Energy Corporate Services, Inc. tendered for filing executed Service Agreements for short-term firm point-to-point transmission service and non-firm point-to-point transmission service, establishing El Paso Merchant Energy, LP as a point-to-point Transmission Customer under the terms of the Alliant Energy Corporate Services, Inc. transmission tariff.

Alliant Energy Corporate Services, Inc. requests an effective date of March 22, 2000.

A copy of this filing has been served upon the Illinois Commerce Commission, the Minnesota Public Utilities Commission, the Iowa Department of Commerce, and the Public Service Commission of Wisconsin.

Comment date: April 26, 2000, in accordance with Standard Paragraph E at the end of this notice.

15. Alliant Energy Corporate Services, Inc.

[Docket No. ER00-2116-000]

Take notice that on April 5 , 2000, Alliant Energy Corporate Services, Inc. (Alliant Energy) tendered for filing executed Service Agreements for short-term firm point-to-point transmission service and non-firm point-to-point transmission service, establishing Wisconsin Public Power Inc. as a point-to-point Transmission Customer under the terms of the Alliant Energy Corporate Services, Inc. transmission tariff.

Alliant Energy Corporate Services, Inc. requests an effective date of April 1, 2000, and accordingly, seeks waiver of the Commission's notice requirements.

A copy of this filing has been served upon the Illinois Commerce Commission, the Minnesota Public Utilities Commission, the Iowa Department of Commerce, and the Public Service Commission of Wisconsin.

16. ANP Bellingham Energy Company

[Docket No. ER00-2117-000]

Take notice that on April 5, 2000, ANP Bellingham Energy Company tendered for filing pursuant to Rules 205 and 207 of the Commission's Rules of Practice and Procedure (18 CFR 385.205 and 385.207) a petition seeking waivers and blanket approvals under various regulations of the Commission, and an order accepting its FERC Electric Rate Schedule No. 1 for filing, to be effective on the date of the Commission's order on such petition.

FERC Electric Rate Schedule No. 1 provides for the sale of energy and capacity at agreed prices.

Comment date: April 26, 2000, in accordance with Standard Paragraph E at the end of this notice.

17. ANP Blackstone Energy Company

[Docket No. ER00-2118-000]

Take notice that on April 5, 2000, ANP Blackstone Energy Company tendered for filing pursuant to Rules 205 and 207 of the Commission's Rules of Practice and Procedure (18 CFR 385.205 and 385.207) a petition seeking waivers and blanket approvals under various regulations of the Commission, and an order accepting its FERC Electric Rate Schedule No. 1 for filing, to be effective on the date of the Commission's order on such petition.

FERC Electric Rate Schedule No. 1 provides for the sale of energy and capacity at agreed prices.

Comment date: April 26, 2000, in accordance with Standard Paragraph E at the end of this notice.

18. Duke Energy Corporation

[Docket No. ER00-2119-000]

Take notice that on April 5, 2000, Duke Energy Corporation (Duke), tendered for filing a Service Agreement with Statoil Energy Services, Inc., for Transmission Service under Duke's Open Access Transmission Tariff.

Duke requests that the proposed Service Agreement be permitted to become effective on March 14, 2000.

Duke states that this filing is in accordance with Part 35 of the Commission's Regulations and a copy has been served on the North Carolina Utilities Commission.

Comment date: April 26, 2000, in accordance with Standard Paragraph E at the end of this notice.

19. Duke Energy Corporation

[Docket No. ER00-2120-000]

Take notice that on April 5, 2000, Duke Energy Corporation (Duke), tendered for filing a Service Agreement with Statoil Energy Services, Inc., for Non-Firm Transmission Service under Duke's Open Access Transmission Tariff.

Duke requests that the proposed Service Agreement be permitted to become effective on March 14, 2000.

Duke states that this filing is in accordance with Part 35 of the Commission's Regulations and a copy has been served on the North Carolina Utilities Commission.

Comment date: April 26, 2000, in accordance with Standard Paragraph E at the end of this notice.

20. Southwest Power Pool, Inc.

[Docket No. ER00-2122-000]

Take notice that on April 4, 2000, Southwest Power Pool, Inc. (SPP) filed a Notice of Cancellation. Effective March 22, 2000, Rate Schedule Nos. 65 and 135, effective date June 1, 1998 and October 15, 1998, respectively, and filed with the Federal Energy Regulatory Commission by Southwest Power Pool, Inc. are to be canceled.

Notice of the proposed cancellation has been served upon Sonat Power Marketing L.P. (Sonat), El Paso Power Services Company (EP Power Services), and El Paso Merchant Energy, L.P. (successor-in-interest to both Sonat and EP Power Services).

Comment date: April 26, 2000, in accordance with Standard Paragraph E at the end of this notice.

21. Central Maine Power Company

[Docket No. ER00-2123-000]

Take notice that on April 5, 2000, Central Maine Power Company (CMP) tendered for filing notice of termination of its Wholesale Market Tariff, Power Sales Tariff, and Voluntary Umbrella Service Agreements.

CMP states that the purpose of this filing is to terminate tariffs and voluntary umbrella service agreements, because CMP has sold its generation assets and is no longer in the business of providing energy.

Comment date: April 26, 2000, in accordance with Standard Paragraph E at the end of this notice.

22. Montana Power Company

[Docket No. ER00-2124-000]

Take notice that on April 5, 2000, Montana Power Company (Montana Power), tendered for filing Amendment #1 to the Power Purchase Agreement between Montana Power and the Department of Water and Power of the City of Los Angeles (LADWP), a long-term service agreement under Montana Power's Market-Based Rate Tariff, FERC Electric Tariff, Original Volume No. 6 (Service Agreement). Pursuant to the terms of the Service Agreement, LADWP has assigned all of its rights and obligations under the Service Agreement to Duke Energy Trading and Marketing, L.L.C. (DETM). Thus, Amendment #1 to the Service Agreement was entered into by and between Montana Power and DETM. Amendment #1 amends the Service Agreement to allow, but not require, Montana Power to make available energy and capacity to DETM at Alternate Points of Delivery when Montana Power chooses to do so after a timely request from DETM. Except as modified in Amendment #1, all provisions of the Service Agreement remain in full force and effect.

Comment date: April 26, 2000, in accordance with Standard Paragraph E at the end of this notice.

23. PJM Interconnection, L.L.C.

[Docket No. ER00-2125-000]

Take notice that on April 5, 2000, PJM Interconnection, L.L.C. (PJM), tendered for filing revised pages to the Amended and Restated Operating Agreement of PJM Interconnection, L.L.C., to clarify the confidentiality provisions in Section 18.17 of that agreement.

PJM requests an effective date of June 5, 2000.

Copies of this filing were served upon all PJM Members and the state electric regulatory commissions in the PJM Control Area.

Comment date: April 26, 2000, in accordance with Standard Paragraph E at the end of this notice.

24. Public Service Company of New Mexico

[Docket No. ER00-2127-000]

Take notice that on April 5, 2000, Public Service Company of New Mexico (PNM), tendered for filing pursuant to Section 35.15 of the Regulations to the Federal Energy Regulatory Commission, 18 CFR 35.15, Notices of Cancellation of various Electric Power Sale, Purchase, and Tariff Service Agreements.

Pursuant to PNM's filing, the following agreements are to be canceled: Contract for Purchase of Energy between PNM and Western Area Power Administration, dated January 1, 1994; Power Sales Agreement between PNM and Imperial Irrigation District, dated March 10, 1992; Amendment Number Four to the Agreement for Electric Service between PNM and the Division of Colorado River Resources, dated February 10, 1977; Service Agreement between PNM and Washington Water Power Company dated June 1, 1992 under Washington Water Power Company's FERC Electric Tariff Original Volume No. 4; Service Agreement between PNM and Montana Power Company dated May 1, 1982 under Montana Power Company's FERC Electric Tariff Original Volume No. 1; and Service Agreement between PNM and PacifiCorp (formerly Pacific Power and Light company, (PP&L)) dated September 27, 1984 under PP&L's FERC Electric Tariff Original volume No. 3, Service Schedule PPL-3. PNM's filing is available for public inspection at its offices in Albuquerque, New Mexico.

Comment date: April 26, 2000, in accordance with Standard Paragraph E at the end of this notice.

25. Sierra Pacific Power Company

[Docket No. ER00-2128-000]

Take notice that on April 5, 2000, Sierra Pacific Power Company (Sierra) tendered for filing Service Agreements (Service Agreements) with Coral Power, L.L.C., for both Non-Firm and Short-Term Firm Point-to-Point Transmission Service under Sierra Pacific Resources Operating Companies FERC Electric Tariff Original Volume No. 1, Open Access Transmission Tariff (Tariff).

Sierra filed the executed Service Agreements with the Commission in compliance with Sections 13.4 and 14.4 of the Tariff and applicable Commission regulations. Sierra also submitted revised Sheet No. 173 (Attachment E) to the Tariff, which is an updated list of all current subscribers.

Sierra requests waiver of the Commission's notice requirements to permit an effective date of April 6, 2000 for Attachment E, and to allow the Service Agreements to become effective according to their terms.

Copies of this filing were served upon the Public Utilities Commission of Nevada, the Public Utilities Commission of California and all interested parties.

Comment date: April 26, 2000, in accordance with Standard Paragraph E at the end of this notice.

26. Duke Energy Corporation

[Docket No. ER00-2130-000]

Take notice that on April 5, 2000, Duke Energy Corporation (Duke), tendered for filing a Service Agreement with NCEMC, for Transmission Service under Duke's Open Access Transmission Tariff.

Duke requests that the proposed Service Agreement be permitted to become effective on February 16, 2000.

Duke states that this filing is in accordance with Part 35 of the Commission's Regulations and a copy has been served on the North Carolina Utilities Commission.

Comment date: April 26, 2000, in accordance with Standard Paragraph E at the end of this notice.

27. Duke Energy Corporation

[Docket No. ER00-2131-000]

Take notice that on April 5, 2000, Duke Energy Corporation (Duke), tendered for filing a Service Agreement with PECO Energy Company, for Transmission Service under Duke's Open Access Transmission Tariff.

Duke requests that the proposed Service Agreement be permitted to become effective on February 16, 2000.

Duke states that this filing is in accordance with Part 35 of the Commission's Regulations and a copy has been served on the North Carolina Utilities Commission.

Comment date: April 26, 2000, in accordance with Standard Paragraph E at the end of this notice.

28. PG&E Dispersed Generating Company, LLC

[Docket No. ER00-2134-000]

Take notice that on April 6, 2000, PG&E Dispersed Generating Company, LLC (PG&E Dispersed Gen), tendered for filing, pursuant to Section 205 of the Federal Power Act, and Part 35 of the Commission's Regulations, a Petition for authorization to make sales of capacity, energy, and certain Ancillary Services at market-based rates, and to reassign transmission capacity.

Comment date: April 27, 2000, in accordance with Standard Paragraph E at the end of this notice.

29. Consumers Energy Company

[Docket No. ER00-2135-000]

Take notice that on April 6, 2000 Consumers Energy Company (Consumers), tendered for filing a Facilities Agreement Between Consumers and Alpena Power Generation, LLC, (Alpena), dated March 21, 2000. Under the Facilities Agreement, Consumers is to construct, operate and maintain various facilities needed in connection with the operation of four generating stations being built by Alpena.

Consumers requests that the Facilities Agreement be allowed to become effective within 60 days of filing.

Copies of the filing were served upon Alpena and upon the Michigan Public Service Commission.

Comment date: April 27, 2000, in accordance with Standard Paragraph E at the end of this notice.

30. Public Service Company of Colorado

[Docket No. ER00-2138-000]

Take notice that on April 6, 2000, Public Service Company of Colorado tendered for filing a revision to Exhibit B to its Power Supply Agreement with Yampa Valley Electric Association as contained in Public Service's Rate Schedule FERC No. 54.

Public Service requests an effective date of March 10, 2000 for this filing.

Comment date: April 27, 2000, in accordance with Standard Paragraph E at the end of this notice.

31. MidAmerican Energy Company

[Docket No. ER00-2139-000]

Take notice that on April 6, 2000, MidAmerican Energy Company (MidAmerican), 666 Grand Avenue, Des Moines, Iowa 50309, tendered for filing with the Commission a Firm Transmission Service Agreement with Constellation Power Source, Inc. (Constellation), dated March 10, 2000, entered into pursuant to MidAmerican's Open Access Transmission Tariff.

MidAmerican requests an effective date of March 10, 2000, for the Agreement with Constellation, and accordingly seeks a waiver of the Commission's notice requirement.

MidAmerican has served a copy of the filing on Constellation, the Iowa Utilities Board, the Illinois Commerce Commission and the South Dakota Public Utilities Commission.

Comment date: April 27, 2000, in accordance with Standard Paragraph E at the end of this notice.

32. California Independent System Operator Corporation

[Docket No. ER00-2140-000]

Take notice that on April 6, 2000, the California Independent System Operator Corporation, tendered for filing a Scheduling Coordinator Agreement between the ISO and Cucamonga Electric Corp., for acceptance by the Commission.

The ISO states that this filing has been served on Cucamonga Electric Corp., and the California Public Utilities Commission.

The ISO is requesting waiver of the 60-day notice requirement to allow the Scheduling Coordinator Agreement to be made effective as of March 27, 2000.

Comment date: April 27, 2000, in accordance with Standard Paragraph E at the end of this notice.

33. Northern Indiana Public Service Company

[Docket No. ER00-2152-000]

Take notice that on April 6, 2000, Northern Indiana Public Service Company (Northern Indiana) tendered for filing notice that it's canceling the following Service Agreement, effective on April 6, 2000:

Service Agreement between Northern Indiana Public Service Company and Stand Energy Corporation dated February 4, 1997.

For the reasons set forth in Northern Indiana's Transmittal Letter to the Commission and in an April 6, 2000 letter to Stand Energy Corporation, Northern Indiana believes that good cause is shown for such cancellation to be effective as of April 6, 2000. Northern Indiana states that the requested cancellation due to the defaults and financial incapacity of Stand Energy Corporation will not affect other purchasers under Northern Indiana's Power Sales Tariff.

Comment date: April 27, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-9946 Filed 4-20-00; 8:45 am]

BILLING CODE 6717-01-P